DEPARTMENT OF COMMERCE

National Oceanic and Atmospheric Administration

[I.D. 040907B]

Gulf of Mexico Fishery Management Council; Public Meeting

AGENCY: National Marine Fisheries Service (NMFS), National Oceanic and Atmospheric Administration (NOAA), Commerce.

ACTION: Notice of Closed Session of the Gulf Council via Conference Call.

SUMMARY: The Gulf of Mexico Fishery Management Council (Council) will convene via Conference Call in a closed session to select members to an Ad Hoc Recreational Red Snapper Advisory Panel, the Ecosystem Scientific and Statistical Committee, and an Ad Hoc Red Drum Scientific Review Panel.

DATES: The Conference Call will be held on Friday, April 27, 2007, from 10 am EDT to approximately 10:30 a.m. EDT.

ADDRESSES: Meeting address: The meeting will be held via Closed Session conference call.

Council address: Gulf of Mexico Fishery Management Council, 2203 North Lois Avenue, Suite 1100, Tampa, Florida 33607.

FOR FURTHER INFORMATION CONTACT: Mr. Wayne Swingle, Executive Director, Gulf of Mexico Fishery Management Council; telephone: 813-348-1630.

SUPPLEMENTARY INFORMATION: The Gulf of Mexico Fishery Management Council (Council) will convene via closed session Conference Call to select members to an Ad Hoc Recreational Red Snapper Advisory Panel, the Ecosystem Scientific and Statistical Committee, and an Ad Hoc Red Drum Scientific Panel.

Dated: April 9, 2007.
Tracey L. Thompson,
Acting Director, Office of Sustainable Fisheries, National Marine Fisheries Service.

[FR Doc. E7-6995 Filed 4-12-07; 8:45 am]

BILLING CODE 3510-22-S